DEPARTMENT OF TRANSPORTATION

Federal Railroad Administration

[Docket Number FRA-2017-0085]

Petition for Waiver of Compliance

In accordance with part 211 of Title 49 Code of Federal Regulations (CFR), this document provides the public notice that by a document dated August 22, 2017, Siemens Mobility Division Rolling Stock (Siemens) has petitioned the Federal Railroad Administration (FRA) for a waiver of compliance from the requirements of 49 CFR 238.103 (Fire safety). FRA assigned the petition docket number FRA-2017-0085.

Section 238.103 of Title 49 of the CFR requires materials used in the construction of passenger cars to meet the test methods and performance criteria for the flammability and smoke emission characteristics of Appendix B to part 238. Appendix B requires all thermal and acoustic insulation material used in the construction of passenger rail vehicles to be tested in accordance with American Society for Testing and Materials (ASTM) E 162.98 with a radiant panel index of Is ≤ 25, and ASTM E 662-01 with a specific optical density Ds (4.0) ≤ 100.

In constructing twenty passenger coaches for use in phase 1 of the Brightline/All Aboard Florida (AAF) passenger service between Miami and West Palm Beach, Siemens used a “K-Flex Eco” material that has been tested with the results of Is = 202 and Ds (4.0) = 131. Siemens is requesting a waiver from Appendix B as applied to these two requirements, asserting that the “fire risk . . . is negligible and an equivalent level of safety is maintained” considering the end use configuration of the material and the small amount of the material used” Siemens further indicates it intends the waiver to provide sufficient information to demonstrate an equivalent level of safety in order to prevent the replacement of the K-Flex Eco insulation material in the 20 coaches. Siemens also notes that granting the requested relief would have a considerable positive impact on the project schedule and associated costs.

In support of its petition, Siemens attached two documents: (1) AAF Coach SFT Water Pipe Insulation Discussion V5 (A 13-page presentation showing pipe insulation material, its usage on AAF coaches, for drain and fresh water pipes, as well as locations of the usage); and (2) a 53-page document titled, “Fire Safety Analysis; Use of K-Flex Eco Insulation in All Aboard Florida Coaches.” (SII-ENA-215 Rev. B). This document provided the analysis supporting Siemens' safety equivalency claim.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 6, 2017 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2017-21514 Filed 10-5-17; 8:45 am]

BILLING CODE 4910-06-P